DEPARTMENT OF COMMERCE

National Oceanic and Atmospheric Administration

[I.D.062700B]

Marine Mammals; Permit No. 455-1445

AGENCY: National Marine Fisheries Service (NMFS), National Oceanic and Atmospheric Administration (NOAA), Commerce.

ACTION: Denial of permit amendment.

SUMMARY: Notice is hereby given that a request for a scientific research permit amendment [No. 455-1445] submitted by Waikiki Aquarium has been denied.

ADDRESSES: The application and related documents are available for review upon written request or by appointment in the following office(s):

Permits and Documentation Division, F/PR1, Office of Protected Resources, NMFS, 1315 East-West Highway, Room 13705, Silver Spring, MD 20910 (301/713-2289);

Southwest Region, NMFS, 501 West Ocean Blvd., Suite 4200, Long Beach, CA 90802-4213 (562/980-4001); and

Pacific Islands Area Office, Southwest Region, NMFS,1601 KAPIOLANI BLVD, RM 1110, HONOLULU, HI 96814-4700 (808)973-2935 x210).

FOR FURTHER INFORMATION CONTACT: Ruth Johnson or Simona Roberts, 301/713-2289.

SUPPLEMENTARY INFORMATION: On March 14, 2000, notice was published in the Federal Register (65 FR 13723) that an application to amend Permit 455-1445 had been filed by the above named organization. The requested permit has been denied subject to the provisions of the Marine Mammal Protection Act of 1972 (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Scientific research and enhancement permit No. 455-1445 was issued on May 26, 1998. The Permit authorizes Waikiki to maintain and care for three male Hawaiian monk seals (Monachus schauinslandi) for enhancement purposes, and to make them available for scientific research. Research project I involves assessing the efficiency with which seals assimilate and metabolize amino acids and fatty acids from common prey types, and elucidating and monitoring how reproductive and metabolic activity of male Hawaiian monk seals are related. Dr. Shannon Atkinson is the principal researcher/co-investigator for this project is.

The permit holder requested authorization to amend the Permit to allow training of seals to accept a rectal temperature probe to take daily temperature measurements. The purpose of the research is to establish baseline temperatures as a diagnostic tool, and use the values to calculate heat transfer budgets for seals as part of a master's thesis conducted under the advisement of Dr. Shannon Atkinson. The application did not contain sufficient information for NMFS to determine that the research was bona fide.

Dated: July 17, 2000.
Ann D. Terbush,
Chief, Permits and Documentation, Office of Protected Resources, National Marine Fisheries Service.

[FR Doc. 00-18420 Filed 7-19-00; 8:45 am]

BILLING CODE 3510-22-F